DEPARTMENT OF THE TREASURY

Fiscal Service

Bureau of the Fiscal Service

Notice of Rate To Be Used for Federal Debt Collection, and Discount and Rebate Evaluation

AGENCY: Bureau of the Fiscal Service, Fiscal Service, Treasury.

ACTION: Notice of rate to be used for Federal debt collection, and discount and rebate evaluation.

SUMMARY: The Secretary of the Treasury is responsible for computing and publishing the percentage rate that is used in assessing interest charges for outstanding debts owed to the Government (The Debt Collection Act of 1982, as amended). This rate is also used by agencies as a comparison point in evaluating the cost-effectiveness of a cash discount. In addition, this rate is used in determining when agencies should pay purchase card invoices when the card issuer offers a rebate. Notice is hereby given that the applicable rate for calendar year 2023 is 1.00 percent.

DATES: January 1, 2023, through December 31, 2023.

FOR FURTHER INFORMATION CONTACT: Department of the Treasury, Bureau of the Fiscal Service, Disbursing and Debt Management, E-Commerce Division (LC-RM 349B), 3201 Pennsy Drive, Building E, Landover, MD 20785 (Telephone: 202-874-9428).

SUPPLEMENTARY INFORMATION: The rate reflects the Current Value of Funds to the Treasury for use in connection with Federal Cash Management systems and is based on investment rates set for purposes of Public Law 95-147, 91 Stat. 1227 (October 28, 1977). The annual Interest Rate Factors used in determining the Current Value of Funds Rate are based on weekly average Fed funds, less 25 basis points for the 12-month period ending every September 30. The Treasury Office of Debt Management began providing the annual Interest Rate Factors in the October 2021 monthly reporting cycle. The Current Value of Funds Rate is rounded to the nearest whole percentage for applicability effective each January 1. Quarterly revisions are made if the annual average, on a moving basis, changes by 2 percentage points.

Authority: 31 U.S.C. Section 3717.

Linda Claire Chero,
Assistant Commissioner, Disbursing and Debt Management, and Chief Disbursing Officer.

[FR Doc. 2022-25077 Filed 11-18-22; 8:45 am]

BILLING CODE 4810-AS-P